DEPARTMENT OF AGRICULTURE

Food Safety and Inspection Service

[Docket No. FSIS-2010-0002]

Codex Alimentarius Commission: Meeting of the Codex Committee on General Principles

AGENCY: Office for Food Safety, USDA.

ACTION: Notice of public meeting and request for comments.

SUMMARY: The Office for Food Safety, U.S. Department of Agriculture (USDA), is sponsoring a public meeting on March 23, 2010. The objective of the public meeting is to provide information and receive public comments on agenda items and draft United States positions that will be discussed at the 26th session of the Codex Committee on General Principles (CCGP) of the Codex Alimentarius Commission (Codex), which will be held in Paris, France, April 12-16, 2010. The Office for Food Safety recognizes the importance of providing interested parties the opportunity to obtain background information on the 26th Session of the CCGP and to address items on the agenda.

DATES: The public meeting is scheduled for Tuesday, March 23, 2010, from 1:30-4 p.m.

ADDRESSES: The public meeting will be held at USDA, Room 107-A, Jamie L. Whitten Building, 1200 Independence Ave SW., Washington, DC 20250. Documents related to the 26th Session of the CCGP will be accessible via the World Wide Web at the following address: http://www.codexalimentarius.net/web/current.jsp?lang=en.

The U.S. Delegate to the 26th Session of the CCGP, Karen Stuck, USDA, Food Safety and Inspection Service (FSIS), invites interested U.S. parties to submit their comments electronically to the following e-mail address: uscodex@fsis.usda.gov.

Registration:

If you would like to participate in the public meeting for the 26th Session of the CCGP by teleconference, please use the following call in number and passcode:

Call In Number: 1-866-692-3158.

Passcode: 5986642.

For Further Information about the 26th Session of the CCGP Contact: Barbara McNiff, USDA, 1400 Independence Ave SW., Room 4861, Washington, DC 20250. Phone: (202) 690-4719, Fax: (202) 720-3157, E-mail: Barbara.McNiff@fsis.usda.gov.

For Further Information about the Public Meeting Contact: Kenneth Lowery, 1400 Independence Ave SW., Room 4861, Washington, DC 20250. Phone: (202) 690-4042, Fax: (202) 720-3157, E-mail: Kenneth.Lowery@fsis.usda.gov.

SUPPLEMENTARY INFORMATION:

Background

The Codex was established in 1963 by two United Nations organizations, the Food and Agriculture Organization and the World Health Organization. Through adoption of food standards, codes of practice, and other guidelines developed by its committees, and by promoting their adoption and implementation by governments, Codex seeks to protect the health of consumers and ensure that fair practices are used in trade.

The CCGP deals with rules and procedures referred to it by the Codex including the establishment of principles which define the purpose and scope of the Codex and the nature of Codex standards. The development of mechanisms to address any economic impact statements is also the responsibility of the CCGP.

The CCGP is hosted by France.

Issues To Be Discussed at the Public Meeting

The following items on the agenda for the 26th Session of the CCGP will be discussed during the public meeting:

• Draft Revised Code of Ethics for International Trade in Foods

• Proposal to amend the Guidelines to Chairpersons of Codex Committees and ad hoc Intergovernmental Task Forces

• Review of the Risk Analysis Policies of Codex Committees

• Definition of the Term “Competent Authority”

• Proposed Amendment to the Terms of Reference of the Committee

• Discussion Paper on the Development of Joint Codex and World Organization for Animal Health Standards

• Discussion Paper on Co-Hosting of Codex Sessions

• Distribution of Documents and Length and Content of Reports

• Structure and Presentation of the Procedural Manual

Each issue listed will be fully described in documents distributed, or to be distributed, by the Secretariat prior to the meeting. Members of the public may access copies of these documents (see ADDRESSES).

Public Meeting

At the March 23, 2010, public meeting, draft U.S. positions on the agenda items will be described and discussed, and attendees will have the opportunity to pose questions and offer comments. Written comments may be offered at the meeting or sent to U.S. Delegate, Karen Stuck for the 26th Session of the CCGP (see ADDRESSES). Written comments should state that they relate to activities of the 26th Session of the CCGP.

Additional Public Notification

Public awareness of all segments of rulemaking and policy development is important. Consequently, in an effort to ensure that minorities, women, and persons with disabilities are aware of this notice, FSIS will announce it online through the FSIS Web page located at http://www.fsis.usda.gov/regulations/2010_Notices_Index/.

FSIS will also make copies of this Federal Register publication available through the FSIS Constituent Update, which is used to provide information regarding FSIS policies, procedures, regulations, Federal Register notices, FSIS public meetings, and other types of information that could affect or would be of interest to constituents and stakeholders. The Update is communicated via Listserv, a free electronic mail subscription service for industry, trade groups, consumer interest groups, health professionals, and other individuals who have asked to be included. The Update is also available on the FSIS Web page. Through the Listserv and Web page, FSIS is able to provide information to a much broader and more diverse audience. In addition, FSIS offers an electronic mail subscription service which provides automatic and customized access to selected food safety news and information. This service is available at http://www.fsis.usda.gov/news_and_events/e-mail_subscription/. Options range from recalls to export information to regulations, directives and notices. Customers can add or delete subscriptions themselves, and have the option to password protect their accounts.

Done at Washington, DC on March 1, 2010.
Karen Stuck,
U.S. Manager for Codex Alimentarius.

[FR Doc. 2010-4693 Filed 3-4-10; 8:45 am]

BILLING CODE 3410-DM-P